INTERNATIONAL TRADING COMMISSION

USITC SE-03-018

Sunshine Act Meeting

Agency Holding the Meeting: International Trade Commission.

Time and Date: June 30, 2003 at 11 a.m.

Place: Room 101, 500 E Street, SW., Washington, DC 20436. Telephone: (202) 205-2000.

Status: Open to the public.

Matters To Be Considered:

1. Agenda for future meetings: none

2. Minutes

3. Ratification List

4. Inv. Nos. 701-TA-435 and 731-TA-1036-1038 (Preliminary) (Certain 4,4′-Diamino-2,2′-Stillbenedisulfonic Acid Chemistry from China, India, and Germany)—briefing and vote. (The Commission is currently scheduled to transmit its determination to the Secretary of Commerce on June 30, 2003; Commissioners' opinions are currently scheduled to be transmitted to the Secretary of Commerce on or before July 8, 2003.)

5. Outstanding action jackets: none

In accordance with Commission policy, subject matter listed above, not disposed of at the scheduled meeting, may be carried over to the agenda of the following meeting.

Issued: June 17, 2003.
By the order of the Commission.
Marilyn R. Abbott,
Secretary to the Commission.

[FR Doc. 03-15706 Filed 6-17-03; 3:45 pm]

BILLING CODE 7020-02-M